DEPARTMENT OF TRANSPORTATION

Federal Transit Administration

49 CFR Part 674

[FTA Docket No. FTA-2015-0003]

RIN 2132-AB19

State Safety Oversight; Corrections

AGENCY: Federal Transit Administration, DOT.

ACTION: Final rule; corrections.

SUMMARY: The Federal Transit Administration (FTA) is correcting a final rule that appeared in the Federal Register on March 16, 2016 (80 FR 14230). The document contained incorrect estimated total annual burden on respondents. This document corrects the estimated total annual burden hours for State Safety Oversight (SSO) Agencies and Rail Transit Agencies (RTA).

DATES: Effective on May 9, 2016.

FOR FURTHER INFORMATION CONTACT: For program matters, Brian Alberts, Program Analyst, FTA Office of Transit Safety and Oversight, telephone 202-366-1783 or Brian.Alberts@dot.gov. For legal matters, Richard Wong, FTA Office of Chief Counsel, telephone 202-366-4011 or Richard.Wong@dot.gov.

SUPPLEMENTARY INFORMATION: In FR Doc. 2016-05489 published in the Federal Register of Wednesday, March 16, 2016 (80 FR 14230), the following corrections are made:

1. On page 14255, in the second column, the third full paragraph that starts with “Respondents:” is corrected to read as follows:

Total Respondents: 90 (30 States + 60 Rail Transit Agencies).

2. On page 14255, in the second column, the fifth full paragraph that starts with “Estimated Total Annual Burden Hours:” is corrected to read as follows:

Total Annual Burden Hours: 586,443 hours (336,843 State Safety Oversight (SSO) Agency hours + 249,600 Rail Transit Agency (RTA) hours).

FTA estimates that the annual information collection burden for States implementing 49 CFR part 674 requirements is 336,843 total hours. This equates to approximately 11,228 hours devoted to information collection activities for each of the estimated 30 States in the SSO Program. FTA estimates that the annual information collection burden for RTAs is approximately 249,600 total hours, or approximately 4,160 hours for each of the 60 rail transit agencies in the SSO Program.

William Hyre,
Deputy Associate Administrator for Administration.

[FR Doc. 2016-10836 Filed 5-6-16; 8:45 am]

BILLING CODE P